DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Arapahoe (FEMA Docket No.: B-2214). | City of Aurora (21-08-0828P). | The Honorable Mike Coffman, Mayor, City of Aurora, 15151 East Alameda Parkway, Aurora, CO 80012. | Public Works Department, 15151 East Alameda Parkway, Aurora, CO 80012. | Apr. 8, 2022 | 080002
Routt (FEMA Docket No.: B-2214). | City of Steamboat Springs (21-08-0824P). | Mr. Gary Suiter, Manager, City of Steamboat Springs, P.O. Box 775088, Steamboat Springs, CO 80477. | City Hall, 137 10th Street, Steamboat Springs, CO 80477. | Apr. 18, 2022 | 080159
Delaware:
Sussex (FEMA Docket No.: B-2178). | Town of South Bethany (22-03-0643P, formerly 21-03-0951P). | The Honorable Tim Saxton, Mayor, Town of South Bethany, 402 Evergreen Road, South Bethany, DE 19930. | Town Hall, 402 Evergreen Road, South Bethany, DE 19930. | Apr. 5, 2022 | 100051
Sussex (FEMA Docket No.: B-2178). | Unincorporated areas of Sussex County (22-03-0643P, formerly 21-03-0951P). | The Honorable Michael H. Vincent, President, Sussex County Council, P.O. Box 589, Georgetown, DE 19947. | Sussex County Administrative Building, 2 The Circle, Georgetown, DE 19947. | Apr. 5, 2022 | 100029
Florida:
Collier (FEMA Docket No.: B-2209). | City of Marco Island (21-04-4573P). | Mr. Mike McNees, Manager, City of Marco Island, 50 Bald Eagle Drive, Marco Island, FL 34145. | Building Services Department, 50 Bald Eagle Drive, Marco Island, FL 34145. | Apr. 12, 2022 | 120426
Collier (FEMA Docket No.: B-2209). | City of Naples (21-04-4309P). | The Honorable Teresa Heitmann, Mayor, City of Naples, 735 8th Street South, Naples, FL 34102. | Building Department, 295 Riverside Circle, Naples, FL 34102. | Apr. 12, 2022 | 125130
Lake (FEMA Docket No.: B-2203). | Unincorporated areas of Lake County (20-04-5238P). | Ms. Jennifer Barker, Interim Manager, Lake County, 315 West Main Street, Tavares, FL 32778. | Lake County Public Works Department, 323 North Sinclair Avenue, Tavares, FL 32778. | Apr. 8, 2022 | 120421
Monroe (FEMA Docket No.: B-2209). | Unincorporated areas of Monroe County (21-04-4717P). | The Honorable David Rice, Mayor, Monroe County Board of Commissioners, 1100 Simonton Street, Key West, FL 33040. | Monroe County Building Department, 2798 Overseas Highway, Suite 300, Marathon, FL 33050. | Apr. 18, 2022 | 125129
Monroe (FEMA Docket No.: B-2203). | Village of Islamorada (21-04-5529P). | The Honorable Buddy Pinder, Mayor, Village of Islamorada, 86800 Overseas Highway, Islamorada, FL 33036. | Building Department, 86800 Overseas Highway, Islamorada, FL 33036. | Apr. 11, 2022 | 120424
Orange (FEMA Docket No.: B-2203). | Unincorporated areas of Orange County (20-04-5238P). | The Honorable Jerry L. Demings, Mayor, Orange County, 201 South Rosalind Avenue, 5th Floor, Orlando, FL 32801. | Orange County Stormwater Division, 4200 South John Young Parkway, Orlando, FL 32839. | Apr. 8, 2022 | 120179
Pasco (FEMA Docket No.: B-2203). | Unincorporated areas of Pasco County (20-04-2814P). | The Honorable Kathryn Starkey, Chair, Pasco County Board of Commissioners, 37918 Meridian Avenue, Dade City, FL 33525. | Pasco County Department of Public Works, 4454 Grand Boulevard, New Port Richey, FL 34652. | Apr. 11, 2022 | 120230
Maryland:
Dorchester (FEMA Docket No.: B-2203). | Unincorporated areas of Dorchester County (21-03-1511P). | The Honorable Jay L. Newcomb, President, Dorchester County Council, P.O. Box 107, Cambridge, MD 21613. | Dorchester County Planning and Zoning Department, 501 Court Lane, Room 111, Cambridge, MD 21613. | Apr. 11, 2022 | 240026
Frederick (FEMA Docket No.: B-2214). | Unincorporated areas of Frederick County (21-03-0980P). | The Honorable Jan H. Gardner, Frederick County Executive, 12 East Church Street, Frederick, MD 21701. | Frederick County Division of Planning and Permitting, 30 North Market Street, Frederick, MD 21701. | Apr. 11, 2022 | 240027
Howard (FEMA Docket No.: B-2209). | Unincorporated areas of Howard County (22-03-0019P). | The Honorable Calvin Ball, Howard County Executive, 3430 Court House Drive, Ellicott City, MD 21043. | Howard County Department of Public Works, Bureau of Environmental Services, 9801 Broken Land Parkway, Columbia, MD 21046. | Apr. 15, 2022 | 240044
Massachusetts: Essex (FEMA Docket No.: B-2214). | Town of Nahant (21-01-1078P). | The Honorable Josh Antrim, Chairman, Town of Nahant Board of Selectmen, 334 Nahant Road, Nahant, MA 01908. | Public Works Department, 334 Nahant Road, Nahant, MA 01908. | Apr. 13, 2022 | 250095
Montana:
Gallatin (FEMA Docket No.: B-2209). | City of Belgrade (21-08-0464P). | Mr. Neil Cardwell, City of Belgrade Manager, 91 East Central Avenue, Belgrade, MT 59714. | Planning Department, 91 East Central Avenue, Belgrade, MT 59714. | Apr. 11, 2022 | 300105
Gallatin (FEMA Docket No.: B-2209). | Unincorporated areas of Gallatin County (21-08-0464P). | The Honorable Scott MacFarlane, Chairman, Gallatin County Commission, 311 West Main Street, Room 306, Bozeman, MT 59715. | Gallatin County Department of Planning and Community Development, 311 West Main Street, Room 108, Bozeman, MT 59715. | Apr. 11, 2022 | 300027
North Carolina: Davie (FEMA Docket No.: B-2216). | Unincorporated areas of Davie County (21-04-2539P). | The Honorable Terry Renegar, Chairman, Davie County Board of Commissioners, 123 South Main Street, Mocksville, NC 27028. | Davie County Development Services Department, 172 Clement Street, Mocksville, NC 27028 | Apr. 15, 2022 | 370308
Tennessee: Shelby (FEMA Docket No.: B-2214). | City of Millington (21-04-1321P). | The Honorable Terry Jones, Mayor, City of Millington, 4715 Oak Harbour Trace, Millington, TN 38053. | Planning and Economic Development Department, 7930 Nelson Road, Millington, TN 38053. | Apr. 15, 2022 | 470178
Texas:
Collin (FEMA Docket No.: B-2209). | City of McKinney (21-06-2216P). | The Honorable George Fuller, Mayor, City of McKinney, P.O. Box 517, McKinney, TX 75070. | Engineering Department, 221 North Tennessee Street, McKinney, TX 75069. | Apr. 11, 2022 | 480135
Collin (FEMA Docket No.: B-2209). | City of Plano (21-06-2054P). | The Honorable John B. Muns, Mayor, City of Plano, 1520 K Avenue, Plano, TX 75074. | Engineering Department, 1520 K Avenue, Plano, TX 75074. | Apr. 11, 2022 | 480140
Harris (FEMA Docket No.: B-2214). | Unincorporated areas of Harris County (19-06-2368P). | The Honorable Lina Hidalgo, Harris County Judge, 1001 Preston Street, Suite 911, Houston, TX 77002. | Harris County Permit Office, 10555 Northwest Freeway, Suite 120, Houston, TX 77092. | Apr. 18, 2022 | 480287
Montgomery (FEMA Docket No.: B-2214). | Unincorporated areas of Montgomery County (19-06-2368P). | The Honorable Mark Keough, Montgomery County Judge, 501 North Thompson Street, Suite 401, Conroe, TX 77301. | Montgomery County Engineering Department, 501 North Thompson Street, Suite 103, Conroe, TX 77301. | Apr. 18, 2022 | 480483
Potter (FEMA Docket No.: B-2209). | City of Amarillo (20-06-3803P). | The Honorable Ginger Nelson, Mayor, City of Amarillo, P.O. Box 1971, Amarillo, TX 79105. | City Hall, 808 South Buchanan Street, Amarillo, TX 79105. | Apr. 15, 2022 | 480529
Webb (FEMA Docket No.: B-2214). | City of Laredo (21-06-1239P). | The Honorable Pete Saenz, Mayor, City of Laredo, 1110 Houston Street, 3rd Floor, Laredo, TX 78040. | Planning and Zoning Department, 1413 Houston Street, Laredo, TX 78040. | Apr. 8, 2022 | 480651

[FR Doc. 2022-11358 Filed 5-25-22; 8:45 am]

BILLING CODE 9110-12-P